THE NATIONAL FOUNDATION ON THE ARTS AND THE HUMANITIES

Meetings of Humanities Panel

AGENCY: The National Endowment for the Humanities, National Foundation on the Arts and the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: April 1, 2011.

Time: 9 a.m. to 5 p.m.

Location: Room 421.

Program: This meeting will review applications for United States History in America's Media Makers Grants Program, submitted to the Division of Public Programs at the January 12, 2011 deadline.

2. Date: April 4, 2011.

Time: 9 a.m. to 5 p.m.

Location: Room 421.

Program: This meeting will review applications for Art in America's Historical and Cultural Organizations Grants Program, submitted to the Division of Public Programs at the January 12, 2011 deadline.

3. Date: April 5, 2011.

Time: 9 a.m. to 5 p.m.

Location: Room 415.

Program: This meeting will review applications for Sustaining Cultural Heritage Collections V in Sustaining Cultural Heritage Collections Program, submitted to the Division of Preservation and Access at the December 1, 2010 deadline.

4. Date: April 5, 2011.

Time: 9 a.m. to 5 p.m.

Location: Room 421.

Program: This meeting will review applications for American Studies in America's Historical and Cultural Organizations Grants Program, submitted to the Division of Public Programs at the January 12, 2011 deadline.

5. Date: April 6, 2011.

Time: 9 a.m. to 5 p.m.

Location: Room 421.

Program: This meeting will review applications for Visual Arts in America's Media Makers Grants Program, submitted to the Division of Public Programs at the January 12, 2011 deadline.

6. Date: April 7, 2011.

Time: 9 a.m. to 5 p.m.

Location: Room 421.

Program: This meeting will review applications for American Studies in America's Historical and Cultural Organizations Grants Program, submitted to the Division of Public Programs at the January 12, 2011 deadline.

7. Date: April 7, 2011.

Time: 9 a.m. to 5 p.m.

Location: Room 415.

Program: This meeting will review applications for Two-Year Colleges, submitted to the Office of Challenge Grants at the February 2, 2011 deadline.

8. Date: April 12, 2011.

Time: 9 a.m. to 5 p.m.

Location: Room 415.

Program: This meeting will review applications for Sustaining Cultural Heritage Collections VI in Sustaining Cultural Heritage Collections Program, submitted to the Division of Preservation and Access at the December 1, 2010 deadline.

9. Date: April 12, 2011.

Time: 9 a.m. to 5 p.m.

Location: Room 421.

Program: This meeting will review applications for Literature and Radio in America's Media Makers Grants Program, submitted to the Division of Public Programs at the January 12, 2011 deadline.

10. Date: April 13, 2011.

Time: 9 a.m. to 5 p.m.

Location: Room 415.

Program: This meeting will review applications for Sustaining Cultural Heritage Collections VII in Sustaining Cultural Heritage Collections Program, submitted to the Division of Preservation and Access at the December 1, 2010 deadline.

11. Date: April 13, 2011.

Time: 9 a.m. to 5 p.m.

Location: Room 421.

Program: This meeting will review applications for World Cultures in America's Historical and Cultural Organizations Grants Program, submitted to the Division of Public Programs at the January 12, 2011 deadline.

12. Date: April 14, 2011.

Time: 9 a.m. to 5 p.m.

Location: Room 421.

Program: This meeting will review applications for American Studies in America's Historical and Cultural Organizations Grants Program, submitted to the Division of Public Programs at the January 12, 2011 deadline.

13. Date: April 14, 2011.

Time: 9 a.m. to 5 p.m.

Location: Room M-07.

Program: This meeting will review applications for Landmark Workshops for School Teachers and Community College Faculty, submitted to the Division of Education Programs at the March 1, 2011 deadline.

14. Date: April 15, 2011.

Time: 9 a.m. to 5 p.m.

Location: Room M-07.

Program: This meeting will review applications for Landmark Workshops for School Teachers and Community College Faculty, submitted to the Division of Education Programs at the March 1, 2011 deadline.

15. Date: April 21, 2011.

Time: 9 a.m. to 5 p.m.

Location: Room M-07.

Program: This meeting will review applications for Landmark Workshops for School Teachers and Community College Faculty, submitted to the Division of Education Programs at the March 1, 2011 deadline.

16. Date: April 26, 2011.

Time: 9 a.m. to 5 p.m.

Location: Room M-07.

Program: This meeting will review applications for Landmark Workshops for School Teachers and Community College Faculty, submitted to the Division of Education Programs at the March 1, 2011 deadline.

17. Date: April 27, 2011.

Time: 9 a.m. to 5 p.m.

Location: Room M-07.

Program: This meeting will review applications for Seminars and Institutes, submitted to the Division of Education Programs at the March 1, 2011 deadline.

18. Date: April 28, 2011.

Time: 9 a.m. to 5 p.m.

Location: Room M-07.

Program: This meeting will review applications for Seminars and Institutes, submitted to the Division of Education Programs at the March 1, 2011 deadline.

19. Date: April 28, 2011.

Time: 9 a.m. to 5 p.m.

Location: Room 415.

Program: This meeting will review applications for Two-Year Colleges, submitted to the Office of Challenge Grants at the February 2, 2011 deadline.

20. Date: April 29, 2011.

Time: 9 a.m. to 5 p.m.

Location: Room M-07.

Program: This meeting will review applications for Seminars and Institutes, submitted to the Division of Education Programs at the March 1, 2011 deadline.

Michael P. McDonald,
Advisory Committee, Management Officer.

[FR Doc. 2011-6102 Filed 3-15-11; 8:45 am]

BILLING CODE 7536-01-P